CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed document entitled: AmeriCorps Education Awards Program 2005 Application. Copies of the document can be obtained by contacting the office listed below in the ADDRESSES section of this notice.

DATES: Written comments must be submitted to the office listed in the ADDRESSES section by February 1, 2005.

ADDRESSES: You may submit written input to the Corporation by any of the following methods:

(1) Electronically through the Corporation's e-mail address system to Kimberly Mansaray at kmansaray@cns.gov.

(2) By fax to 202-565-2791, Attention Ms. Kimberly Mansaray.

(3) By mail sent to: Corporation for National and Community Service, AmeriCorps State and National, 9th Floor, Attn: Ms. Kimberly Mansaray, 1201 New York Avenue NW., Washington, DC 20525.

(4) By hand delivery or by courier to the Corporation's mailroom at Room 6010 at the mail address given in paragraph (3) above, between 9 a.m. and 4 p.m. Monday through Friday, except Federal holidays.

FOR FURTHER INFORMATION CONTACT: Ms. Kimberly Mansaray, (202) 606-5000, ext. 249.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

I. Background

The Corporation for National and Community Service, through its national service programs and projects: (1) Provides opportunities for all Americans to serve; (2) affords members with meaningful, valuable, and enriching experiences; and (3) supports a continued ethic of volunteer service. The AmeriCorps Education Awards Program 2005 Application Instructions provide potential applicants with information necessary for completing an application for funds to operate an AmeriCorps Education Awards program.

II. Current Action

Type of Review: Renewal with revisions.

Agency: Corporation for National and Community Service.

Title: AmeriCorps Education Awards Program 2005 Application.

OMB Number: 3045-0065.

Agency Number: None.

Affected Public: Eligible applicants to the Corporation for grant funds.

Total Respondents: 300 respondents annually.

Frequency: Once annually.

Average Time Per Response: 8 hours.

Estimated Total Burden Hours: 2,400 hours.

Total Burden Cost (capital/startup): None.

Total Burden Cost (operating/maintenance): None.

Comments submitted in response to this notice will be summarized and/or included in the request for Office of Management and Budget approval of the information collection request; they will also become a matter of public record.

Dated: November 29, 2004.
Rosie K. Mauk,
Director of AmeriCorps.

[FR Doc. 04-26644 Filed 12-2-04; 8:45 am]

BILLING CODE 6050-$$-P